DEPARTMENT OF TRANSPORTATION

Federal Aviation Administration

14 CFR Part 39

[Docket No. FAA-2008-0393; Directorate Identifier 2008-CE-011-AD]

RIN 2120-AA64

Airworthiness Directives; Viking Air Limited (Formerly deHavilland Inc.) Model DHC-2 Series Airplanes

AGENCY: Federal Aviation Administration (FAA), Department of Transportation (DOT).

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

Cracks have been reported in the front spar center web of the tailplane at the pick-up bracket and at lightening holes. If not detected early and repaired, these cracks may lead to failure of the tailplane.

The proposed AD would require actions that are intended to address the unsafe condition described in the MCAI.

DATES: We must receive comments on this proposed AD by May 2, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Pong Lee, Aerospace Engineer, FAA, New York Certification Office, 1600 Stewart Avenue, Suite 410, Westbury, New York 11590; telephone: (516) 228-7324; fax: (516) 794-5531.

SUPPLEMENTARY INFORMATION:

Comments Invited

We invite you to send any written relevant data, views, or arguments about this proposed AD. Send your comments to an address listed under the ADDRESSES section. Include “Docket No. FAA-2008-0393; Directorate Identifier 2008-CE-011-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

AD 92-24-02, Amendment 39-8407 became effective on December 15, 1992. AD 92-24-02 requires actions intended to address an unsafe condition on the products listed above.

Since we issued AD 92-24-02, we have determined that the visual repetitive inspection required in AD 92-24-02 should be a fluorescent penetrant inspection.

Transport Canada, which is the aviation authority for Canada, has issued AD No. CF-1991-42R1, dated March 13, 2007 (referred to after this as “the MCAI”), to correct an unsafe condition for the specified products. The MCAI states:

Cracks have been reported in the front spar center web of the tailplane at the pick-up bracket and at lightening holes. If not detected early and repaired, these cracks may lead to failure of the tailplane. This revision is issued to reflect the new requirement to inspect the tailplane front spar web behind the pick-up brackets using fluorescent penetrant inspection (FPI) instead of the visual inspection method used previously.

You may obtain further information by examining the MCAI in the AD docket.

Relevant Service Information

DeHavilland Inc., the former type certificate (TC) holder, issued Bombardier de Havilland DHC-2 (Beaver) Service Bulletin 2/47 Revision C, revised September 4, 1992; and deHavilland Aircraft of Canada, Limited Technical News Sheet, dated August 1, 1952. Viking Air Limited, the present TC holder has issued Viking DHC-2 Beaver Service Bulletin No. 2/47, Revision E, dated January 23, 2007. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 396 products of U.S. registry. We also estimate that it would take about 10 work-hours per product to comply with the basic requirements of this proposed AD. The average labor rate is $80 per work-hour.

Based on these figures, we estimate the cost of the proposed AD on U.S. operators to be $316,800, or $800 per product.

In addition, we estimate that any necessary follow-on actions would take about 48 work-hours and require parts costing $1,854, for a cost of $5,694 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-8407, and adding the following new AD:

Viking Air Limited (formerly deHavilland Inc.): Docket No. FAA-2008-0393; Directorate Identifier 2008-CE-011-AD.

Comments Due Date

(a) We must receive comments by May 2, 2008.

Affected ADs

(b) This AD supersedes AD 92-24-02; Amendment 39-8407.

Applicability

(c) This AD applies to Models DHC-2 Mk. I, DHC-2 Mk. II, and DHC-2 Mk. III airplanes, all serial numbers, certificated in any category.

Subject

(d) Air Transport Association of America (ATA) Code 55: Stabilizers.

Reason

(e) The mandatory continuing airworthiness information (MCAI) states:

Cracks have been reported in the front spar center web of the tailplane at the pick-up bracket and at lightening holes. If not detected early and repaired, these cracks may lead to failure of the tailplane. This revision is issued to reflect the new requirement to inspect the tailplane front spar web behind the pick-up brackets using fluorescent penetrant inspection (FPI) instead of the visual inspection method used previously.

Retained Actions of AD 92-24-02

(f) Unless already done, do the following:

(1) If you have cracks that have been previously repaired with stop-drilled holes, within the next 12 calendar months after December 15, 1992 (the compliance date retained from AD 92-24-02), replace the tailplane front spar following Bombardier de Havilland DHC-2 (Beaver) Service Bulletin 2/47 Revision C, revised September 4, 1992.

(2) For airplanes with lightening holes (without modification 2/466), within the next 200 hours time-in-service (TIS) after December 15, 1992 (the compliance date retained from AD 92-24-02), visually inspect the front spar web in the area of the lightening holes for cracks between the pickup brackets. If cracks are found, before further flight, replace the tailplane front spar. Follow Bombardier de Havilland DHC-2 (Beaver) Service Bulletin 2/47 Revision C, revised September 4, 1992.

(3) Within the next 24 calendar months after December 15, 1992 (the compliance date retained from AD 92-24-02), do the following:

(i) For airplanes having serial numbers (S/Ns) 1 through 100, install longer pick-up brackets (modification 2/436) following deHavilland Aircraft of Canada, Limited Technical News Sheet, dated August 1, 1952.

Note 1: Modification 2/436 was incorporated at manufacture on airplanes beginning with S/N 101. Other airplanes may have incorporated this modification in the field.

(ii) For airplanes having S/N 1 through 317, install a gusset plate on the rear face at each of the pick-up brackets (modification 2/758) following deHavilland Aircraft of Canada, Limited Technical News Sheet, dated August 1, 1952.

Note 2: Modification 2/758 was incorporated at manufacture on airplanes beginning with S/N 318. Other airplanes may have incorporated this modification in the field.

New Requirements of This AD: Actions and Compliance

(g) Unless already done, do the following actions:

(1) Within 200 hours time-in-service (TIS) after the effective date of this AD and repetitively thereafter at intervals not to exceed every 24 months, remove the tailplane front spar pick-up brackets and do a fluorescent penetrant inspection of the tailplane front spar web for cracks in the area of the pick-up brackets following Appendix A of Viking DHC-2 Beaver Service Bulletin 2/47, Revision E, dated January 23, 2007.

(2) If during any of the inspections required in paragraph (g)(1) of this AD cracks are found, before further flight, replace the tailplane front spar following Viking DHC-2 Beaver Service Bulletin 2/47, Revision E, dated January 23, 2007.

(3) Within the next 12 months after the effective date of this AD, incorporate modification 2/466 (deletion of lightening holes) following Viking DHC-2 Product Support Manual 1-2-MOD.

(4) If any cracks are found as a result of the inspections required by this AD, use the following contact information to report your results: Viking Air Limited, Technical Support, 9574 Hampden Road, Sidney, British-Columbia, Canada, V8L 5V5; telephone: regional 250-656-7227, North America 1-800-0663-8444, or international 1-800-6727-6727; fax: 250-656-0673; e-mail: technical.support@vikingair.com.

FAA AD Differences

Note 3: This AD differs from the MCAI and/or service information as follows: No differences.

Other FAA AD Provisions

(g) The following provisions also apply to this AD:

(1) Alternative Methods of Compliance (AMOCs): The Manager, New York Aircraft Certification Office, FAA, has the authority to approve AMOCs for this AD, if requested using the procedures found in 14 CFR 39.19. Send information to ATTN: Pong Lee, Aerospace Enginee, FAA, New York Certification Office, 1600 Stewart Avenue, Suite 410, Westbury, New York 11590; telephone: (516) 228-7324; fax: (516) 794-5531. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to Transport Canada AD CF-1991-42R1, dated March 13, 2007; and Viking DHC-2 Beaver Service Bulletin No. 2/47, Revision E, dated January 23, 2007, for related information.

Issued in Kansas City, Missouri, on March 25, 2008.
Kim Smith,
Manager, Small Airplane Directorate, Aircraft Certification Service.

[FR Doc. E8-6831 Filed 4-1-08; 8:45 am]

BILLING CODE 4910-13-P